DEPARTMENT OF HOUSING AND URBAN DEVELOPMENT

Office of Federal Housing Enterprise Oversight

Solicitation of Public Comments on Proposed Information Quality Guidelines

AGENCY: Office of Federal Housing Enterprise Oversight, HUD.

ACTION: Solicitation of public comments.

SUMMARY: The Office of Federal Housing Enterprise Oversight (OFHEO) is soliciting comments on information quality guidelines. OFHEO has drafted proposed information quality guidelines pursuant to Office of Management and Budget Final Guidelines issued on February 22, 2002 (67 FR 8452-8460). OFHEO's proposed guidelines ensure and maximize the quality, objectivity, utility, and integrity of information that is disseminated by the agency to the public. The proposed guidelines also provide an administrative process allowing affected individuals to seek and obtain correction of information maintained and disseminated by OFHEO that does not comply with OMB guidelines. The purpose of this notice is to solicit public comment on OFHEO's proposed information quality guidelines to help OFHEO in developing and finalizing the guidelines. The proposed guidelines are posted on OFHEO's Web site, http://www.ofheo.gov.

DATES: Written comments regarding OFHEO's Information Quality Guidelines due by May 2, 2002.

ADDRESSES: Send written comments to Andrew Varrieur, Chief Information Officer, Office of Federal Housing Enterprise Oversight, 1700 G Street, NW., Fourth Floor, Washington, DC 20552. Alternatively, comments may also be sent by electronic mail to infoquality@ofheo.gov. OFHEO requests that written comments submitted in hard copy also be accompanied by an electronic version in MS Word(c) or in portable document format (PDF) on 3.5″ disk. All comments will be posted on the OFHEO Web site at: http://www.ofheo.gov.

FOR FURTHER INFORMATION CONTACT: Andrew Varrieur, Chief Information Officer, Office of Federal Housing Enterprise Oversight, 1700 G Street, NW., Fourth Floor, Washington, DC 20552, telephone (202) 414-8883 (not a toll free number). The telephone number for the Telecommunications Device for the Deaf is: (800) 877-8339.

Dated: March 28, 2002.
Armando Falcon, Jr.,
Director, Office of Federal Housing Enterprise Oversight.

[FR Doc. 02-8014 Filed 4-1-02; 8:45 am]

BILLING CODE 4220-01-P